DEPARTMENT OF DEFENSE

Defense Intelligence Agency

[DOD-2006-OS-0141]

Privacy Act of 1974; System of Records

AGENCY: Defense Intelligence Agency, DoD.

ACTION: Notice to add a system of records.

SUMMARY: The Defense Intelligence Agency is proposing to add a system of records to its existing inventory of records systems subject to the Privacy Act of 1974, (5 U.S.C. 552a), as amended.

DATES: The proposed action will be effective on July 14, 2006 unless comments are received that would result in a contrary determination.

ADDRESSES: Freedom of Information Office, Defense Intelligence Agency (DAN-1A), 200 MacDill Blvd., Washington, DC 20340-5100.

FOR FURTHER INFORMATION CONTACT: Ms. Theresa Lowery at (202) 231-1193.

SUPPLEMENTARY INFORMATION: The Defense Intelligence Agency systems of records notices subject to the Privacy Act of 1974 (5 U.S.C. 552a), as amended, have been published in the Federal Register and are available from the address above.

The proposed system report, as required by 5 U.S.C. 552a(r) of the Privacy Act of 1974, as amended, was submitted on June 6, 2006, to the House Committee on Government Reform, the Senate Committee on Homeland Security and Governmental Affairs, and the Office of Management and Budget (OMB) pursuant to paragraph 4c of Appendix I to OMB circular No. A-130, “Federal Agency Responsibilities for Maintaining Records About Individuals,” dated February 8, 1996 (February 20, 1996, 61 FR 6427).

Dated: June 7, 2006.
C.R. Choate,
Alternate OSD Federal Register Liaison Officer, Department of Defense.

LDIA 06-0003

System Name:

Deployment Management Records.

System Location:

Defense Intelligence Agency (DIA) Deployment Center, 3300 75th Ave., Landover, MD.

Categories of individuals covered by the system:

Military personnel, civilian employees, employees of other government agencies and contractors supporting ongoing contingency operations for DIA missions.

Categories of Records in the System:

Records include but are not limited to copies of security information, copies of medical files, documentation of fulfilled training requirements, organizational and administrative information. Records include a profile containing: Full name of the individual; social security number; home, work, cell and pager numbers; home address; personal and work email address; emergency contact name, telephone number, home address, and email address; contract number and contractor organization name, along with employer's contact name, address and telephone number; travel itineraries; deployment; copies of passport and/or visa and common access or identification card; travel authorization information; trip dates, deployment processing information including training completed certifications, medical and dental screenings, blood type; and other official deployment-related information.

Authority for maintenance of the system:

5 U.S.C. 301, 44 U.S.C. 3102; DIA Instruction 1400.003, Civilian Workforce Deployments; and E.O. 9397 (SSN).

Purpose(s):

To plan and manage support personnel who deploy in support of ongoing contingency operations for DIA missions.

Routine Uses of Records Maintained in the System, Including Categories of Users and the Purposes of Such Uses:

In addition to those disclosures generally permitted under 5 U.S.C. 552a(b) of the Privacy Act, these records or information contained therein may specifically be disclosed outside the Department of Defense as a routine use pursuant to 5 U.S.C. 552a(b)(3) as follows:

The `Blanket Routine Uses' set forth at the beginning of the DIA's compilation of systems of records notices apply to this system.

Policies and Practices for Storing, Retrieving, Accessing, Retaining, and Disposing of Records in the System:

Storage:

Paper and electronic records.

Retrievability:

Name, Social Security Number (SSN) and Deployment Identification Number (DIN).

Safeguards:

Paper records are maintained in a building protected by security guards and are stored in locked cabinets inside a protected storage area within a locked room within a SCIF and are accessible only to authorized personnel who are properly screened, cleared and trained in the protection of privacy information. Electronic records will be maintained on a secure, password protected server.

Retention and Disposal:

Disposition and retention pending National Archives and Records Administration (NARA) approval. Records will be treated as permanent until disposition and retention policies are approved by NARA.

System Manager(s) and Address:

Defense Intelligence Agency (DIA) Deployment Center, 3300 75th Ave., Landover, MD.

Notification Procedure:

Individuals seeking to determine whether information about themselves is contained in this system of records should address written inquiries to the DIA Privacy Office (DAN-1C), Defense Intelligence Agency, 200 MacDill Blvd., Washington, DC 20340-5100.

Individual should provide their full name, current address, telephone number and Social Security Number.

Record Access Procedures:

Individuals seeking access to information about themselves, contained in this system of records, should address written inquiries to DIA Privacy Office (DAN-1C), Defense Intelligence Agency, 200 MacDill Blvd., Washington, DC 20340-5100.

Individual should provide their full name, current address, telephone number and Social Security Number.

Contesting Record Procedures:

The Defense Intelligence Agency's rules for accessing records, for contesting contents and appealing initial agency determinations are published in DIA Regulation 12-12 “Defense Intelligence Agency Privacy Program”; 32 CFR part 319—Defense Intelligence Agency Privacy Program; or may be obtained from the system manager.

Record Source Categories:

Agency employees, other government agencies and employees.

Exemptions Claimed for the System:

None.

[FR Doc. 06-5404 Filed 6-13-06; 8:45 am]

BILLING CODE 5001-01-M